DEPARTMENT OF VETERANS AFFAIRS

[OMB Control No. 2900-0519]

Proposed Information Collection Activity: Proposed Collection; Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice. This notice solicits comments for information needed to determine locality pay rates for nurses at VA facilities.

DATES: Written comments and recommendations on the proposed collection of information should be received on or before June 14, 2002.

ADDRESSES: Submit written comments on the collection of information to Ann W. Bickoff (193B1), Department of Veterans Affairs, 810 Vermont Avenue, NW., Washington, DC 20420 or e-mail: ann.bickoff@hq.med.va.gov. Please refer to “OMB Control No. 2900-NEW” in any correspondence.

FOR FURTHER INFORMATION CONTACT: Ann W. Bickoff at (202) 273-8310 or FAX (202) 273-9381.

SUPPLEMENTARY INFORMATION: Under the PRA of 1995 (Public Law 104-13; 44 U.S.C., 3501-3520), Federal agencies must obtain approval from the Office of Management and Budget (OMB) for each collection of information they conduct or sponsor. This request for comment is being made pursuant to section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Locality Pay System for Nurses and Other Health Care Personnel, VA Form 10-0132.

OMB Control Number: 2900-0519.

Type of Review: Extension of a currently approved collection.

Abstract: VA Form 10-0132 is used to collect data to determine locality pay rates for registered nurses and nurse anesthetists at VA facilities. Rates of pay are established by VA medical facility Directors based on rates of compensation for corresponding positions in the local labor market. The law requires that where available, data from the Bureau of Labor Statistics or other third party industry surveys will be used in determining the beginning rates of compensation. Without this information, VA cannot provide for a locality pay system to maintain competitive pay rates for the recruitment and retention of affected health care personnel.

Affected Public: Business or other for-profit.

Estimated Annual Burden: 1,519 hours.

Estimated Average Burden Per Respondent: 45 minutes.

Frequency of Response: Annually.

Estimated Number of Respondents: 2,025.

Dated: March 28, 2002.
By direction of the Secretary.
Barbara H. Epps,
Management Analyst, Information Management Service.

[FR Doc. 02-8979 Filed 4-12-02; 8:45 am]

BILLING CODE 8320-01-P